INTERNATIONAL TRADE COMMISSION

[Inv. No. 337-TA-421]

Certain enhanced dram devices containing embedded cache memory registers, components thereof, and products containing same; Notice of Commission determination not to review an initial determination terminating the investigation on the basis of a settlement agreement

AGENCY: U.S. International Trade Commission.

ACTION: Notice.

SUMMARY: Notice is hereby given that the U.S. International Trade Commission has determined not to review the presiding administrative law judge's (ALJ's) initial determination (ID) (Order No. 8) in the above-captioned investigation terminating the investigation on the basis of a settlement agreement.

FOR FURTHER INFORMATION CONTACT: Cynthia P. Johnson, Esq., Office of the General Counsel, U.S. International Trade Commission, telephone 202-205-3098. General information concerning the Commission may also be obtained by accessing its Internet server (http://www.usitc.gov). Hearing-impaired persons are advised that information on the matter can be obtained by contacting the Commission's TDD terminal on 202-205-1810.

SUPPLEMENTARY INFORMATION: The Commission instituted the above-referenced investigation based on a complaint filed by Enhanced Memory Systems, Inc. (EMS) of Colorado Springs, Colorado. The complaint alleged violations of section 337 based on the importation into the United States, the sale for importation, and the sale within the United States after importation of certain enhanced DRAM devices containing embedded cache memory registers, components thereof, or products containing them by reason of infringement of claims 26 or 27 of U.S. Letters Patent 5,721,962 or claims 2, 6, 17, 18, 27, 28, 29, 30, or 31 of U.S Letters Patent 5,887,272. NEC Corporation, NEC Electronics, Inc. and NEC USA Inc. (collectively, “NEC”) were named as respondents.

On November 12, 1999, EMS and NEC filed a joint motion to terminate the investigation based on a settlement agreement. On November 22, 1999, the Commission investigative attorney filed a response in support of the joint motion to terminate. On December 20, 1999, the presiding ALJ granted the joint motion and issued an ID (Order No. 8) terminating the investigation on the basis of the settlement agreements. The ALJ found no indication that termination of the investigation would have an adverse impact on the public interest and that termination based on settlement is generally in the public interest. No petitions for review were filed.

This action is taken under the authority of section 337 of the Tariff Act of 1930, 19 U.S.C. § 1337, and Commission rule 210.42, 19 CFR 210.42.

Copies of the public version of the ALJ's ID, and all other nonconfidential documents filed in connection with this investigation, are or will be available for inspection during official business hours (8:45 a.m. to 5:15 p.m.) in the Office of the Secretary, U.S. International Trade Commission, 500 E Street S.W., Washington, D.C. 20436, telephone 202-205-2000.

By order of the Commission.
Issued: January 20, 2000.
Donna R. Koehnke,
Secretary.

[FR Doc. 00-1831 Filed 1-25-00; 8:45 am]

BILLING CODE 7020-02-P